FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 10, 2016.

A. Federal Reserve Bank of Chicago (Colette A. Fried, Assistant Vice President) 230 South LaSalle Street, Chicago, Illinois 60690-1414:

1. Timothy D. Halvorson, St. Ansgar, Iowa, individually, and together as a group acting in concert, with Cynthia C. Carruthers, Fort Myers, Florida, Megan E. Porisch, St. Ansgar, Iowa, and Erin K. Tjaden, Huxley, Iowa, to acquire additional shares of St. Ansgar Bancorporation, and thereby indirectly retain control of St. Ansgar State Bank, both in St. Ansgar, Iowa.

B. Federal Reserve Bank of Minneapolis (Jacquelyn K. Brunmeier, Assistant Vice President) 90 Hennepin Avenue, Minneapolis, Minnesota 55480-0291:

1. Duane E. Bowman, Bowman, North Dakota, to join a group acting in concert with Susan Berglund, Bowman, North Dakota; Roger Berglund, Bowman, North Dakota; Gwenn Jones, Bowman, North Dakota; Wendy Jorgenson, Bismarck, North Dakota; and Bruce Bowman, Rhame, North Dakota; by retaining voting shares of Dakota Western Bankshares, Inc., and thereby indirectly retaining voting shares of Dakota Western Bank, both in Bowman, North Dakota.

Board of Governors of the Federal Reserve System, May 19, 2016.
Michele T. Fennell,
Assistant Secretary of the Board.

[FR Doc. 2016-12264 Filed 5-24-16; 8:45 am]

BILLING CODE 6210-01-P